DEPARTMENT OF THE INTERIOR

Fish and Wildlife Service

Palmyra Atoll National Wildlife Refuge and Kingman Reef National Wildlife Refuge

AGENCY: Fish and Wildlife Service, Interior.

ACTION: Notice of intent to prepare a comprehensive conservation plan and environmental assessment and a step-down research management plan and environmental assessment; and announcement of a public open house meeting.

SUMMARY: This notice advises the public that we the U.S. Fish and Wildlife Service (Service, we) intend to initiate a single planning process to consecutively develop a comprehensive conservation plan (CCP) and environmental assessment for the Palmyra Atoll National Wildlife Refuge (NWR), and a step-down research management plan (RMP) and environmental assessment for both Palmyra and Kingman Reef NWRs. This notice also announces a public open house meeting; see SUPPLEMENTARY INFORMATION for the details. Both NWRs are low coral atolls located in the Central Pacific Ocean approximately 1,000 miles south of Hawai'i. We furnish this notice in compliance with our CCP policy to advise other agencies and the public of our intentions, and to obtain suggestions and information on the scope of issues to be considered in the planning process.

DATES: Please provide written comments on these proposals by June 6, 2007. We will hold a public open house meeting on May 8, 2007, to begin the CCP and RMP planning process; see SUPPLEMENTARY INFORMATION for date, time, and location.

ADDRESSES: Address comments, questions, and requests for further information to William Smith, Refuge Manager, Palmyra Atoll National Wildlife Refuge Complex, 300 Ala Moana Boulevard, Room 5-231, Box 50167, Honolulu, HI 96850. Comments may be faxed to the Refuge Complex office at (808) 792-9586, or e-mailed to william_smith@fws.gov. Additional information concerning these NWRs is available on the Internet at http://www.fws.gov/pacificislands/wnwr/nwrindex.html. The address for the public meeting location is listed under SUPPLEMENTARY INFORMATION.

FOR FURTHER INFORMATION CONTACT: William Smith, (808) 792-9550.

SUPPLEMENTARY INFORMATION: With this notice, we initiate the process for development of a CCP for Palmyra Atoll NWR and a RMP for the Palmyra Atoll and Kingman Reef NWRs.

Background

Planning Requirements

The National Wildlife Refuge System Administration Act of 1966 (Refuge Administration Act), as amended by the National Wildlife Refuge System Improvement Act of 1997 (16 U.S.C. 668dd-668ee), requires the Service to develop a comprehensive conservation plan for each national wildlife refuge. The purpose in developing a comprehensive conservation plan is to provide refuge managers with a 15-year strategy for achieving refuge purposes and contribute toward the mission of the National Wildlife Refuge System, consistent with sound principles of fish and wildlife management, conservation, legal mandates, and Service policies. In addition to outlining broad management direction on conserving wildlife and their habitats, plans identify wildlife-dependent recreational opportunities available to the public, including opportunities for hunting, fishing, wildlife observation, wildlife photography, and environmental education and interpretation.

A step-down RMP would address research goals, objectives, and strategies for research actions and include findings of appropriateness of a refuge use, and compatibility determinations for all research activities proposed for or occurring on Palmyra Atoll and Kingman Reef NWRs.

The Service will prepare separate environmental assessments for the CCP and RMP pursuant to the National Environmental Policy Act (NEPA) of 1969, as amended (42 U.S.C. 4321 et seq.); NEPA Regulations (40 CFR parts 1500-1508); other appropriate Federal laws and regulations; and our policies and procedures for compliance with those laws and regulations.

We establish each unit of the National Wildlife Refuge System with specific purposes. We use these purposes to develop and prioritize management goals and objectives within the National Wildlife Refuge System mission, and to guide which public uses will occur on a refuge. The planning process is a way for us and the public to evaluate management goals and objectives for the best possible conservation of important wildlife habitat, while providing for wildlife-dependent recreation opportunities that are compatible with the Refuges' establishment purposes and the mission of the National Wildlife Refuge System.

We will conduct a planning process that will provide opportunity for Tribal, State, and local governments; agencies; organizations; and the public to participate in issue scoping and provide public comments. We request input for issues, concerns, ideas, and suggestions for the future management of the Palmyra Atoll and Kingman Reef NWRs. We will also give the public an opportunity to provide input at an open house to scope issues and concerns. All information provided voluntarily by mail, phone, or at public meetings becomes part of our official public record. We will handle requests for comments received in accordance with the Freedom of Information Act, NEPA, and Service and Departmental policies and procedures.

The Refuges

Palmyra Atoll and Kingman Reef are the northernmost atolls in the Line Islands Archipelago in the equatorial Pacific Ocean. Both are located approximately 1,000 miles south by west of Honolulu, Hawai'i, and are situated about 5 degrees north of the Equator. During WWII, the U.S. Navy stationed over 6,000 personnel at Palmyra Atoll. The military dredged a seaplane runway through the central lagoon and built a connective causeway that bisected the lagoon across the remaining reef flat. Relatively small, disconnected islets were joined together with dredge spoil, increasing both the elevation and terrestrial footprint of the emergent atoll. An extensive base and supporting infrastructure were built, including a 1-mile land-based airplane runway surfaced with crushed coral. The Palmyra Atoll NWR was established in 2001 through DOI Secretarial Order 3224. The Refuge boundary extends from the low water mark seaward to 12 nautical miles (515,232 acres) and includes 16,094 acres of coral reef habitat and 680 acres of horseshoe-shaped emergent lands encompassing a central lagoon. Palmyra's terrestrial habitats support one of the largest remaining stands of Pisonia beach forest in the Pacific and several other native varieties of ferns and shrubs. The Atoll is also home to the world's largest land-based invertebrate, the coconut crab, so-named because of its ability to crack open a coconut with its huge claws. The second largest red-footed booby colony in the world is found on Palmyra, which also hosts significant populations of brown boobies, black noddies, sooty terns, red- and white-tailed tropicbirds, masked boobies, great frigatebirds, and white terns. More than 200 bristle-thighed curlews, a large shorebird whose worldwide population estimate is only 6,000 individuals, spend their winters on Palmyra. Palmyra Atoll's near-pristine reefs support three times the number of coral species found in Hawai'i and the Caribbean, and five times the number of species found in the Florida Keys. Marine wildlife includes pilot whales, bottle-nosed dolphins, hawksbill and green sea turtles, reef sharks, tiger sharks, manta rays, and giant clams. Management programs on Palmyra Atoll are primarily focused on invasive species management, conservation of the Pisonia forest, restoring altered lagoon hydrology, protecting seabird nesting colonies, and providing opportunities for the public to learn about wildlife resources through wildlife viewing, interpretation, and recreation.

Palmyra Atoll is managed cooperatively by the Service and The Nature Conservancy (TNC), which owns Cooper Island proper, within the NWR, including the airstrip. In a partnership with 10 academic institutions comprising the Palmyra Atoll Research Consortium (PARC), TNC owns and operates The Palmyra Atoll Research Station on Cooper Island. The PARC was established by TNC in 2003 to conduct integrative research and studies of biodiversity, ecosystem function, and environmental change at Palmyra Atoll and Kingman Reef NWRs. Proposed projects generally fall under one or more of three overarching themes: Marine Biodiversity, Terrestrial Interface, and Climate and Biogeochemistry.

Kingman Reef NWR lies 33 miles northwest of Palmyra. The first recorded western contact with Kingman Reef was by Captain Fanning, an American whaler, in 1798. The reef was also visited by its namesake, Captain W.E. Kingman, in the American ship Shooting Star, in 1853. In 1860, the United States Guano Company claimed Kingman Reef as a United States Territory under the Guano Islands Act of 1856, 48 U.S.C. 1411-1419. In 1934, President Franklin D. Roosevelt issued Executive Order No. 6935, which “reserved [and] set aside” Kingman Reef and placed it under the Secretary of the Navy's “control and jurisdiction.” In 1941, President Roosevelt issued a second executive order affecting Kingman Reef. Executive Order No. 8682 established and reserved several Naval Defense Sea Area and Naval Airspace Reservations over certain Pacific islands, including Kingman Reef. In 2000, the Navy identified its “control over and administrative jurisdiction of Kingman Reef” as “excess” to Department of Defense requirements, and transferred “custody and accountability for Kingman Reef” to the Department of the Interior. The Department of the Interior accepted this transfer, subject to the 1934 and 1941 Executive Orders, which remained in effect.

There are no terrestrial plants on Kingman Reef, which is frequently awash; however, its pristine coral reefs support abundant and diverse marine fauna and flora. Kingman Reef is one of the most pristine coral reef atoll ecosystems in the Pacific Ocean. In 2001, the waters surrounding the Reef out to 12 nautical miles were designated as the Kingman Reef National Wildlife Refuge. It is comprised of 486,699 submerged acres of crystal clear oceanic waters and vibrant coral reefs supporting a spectacular diversity of corals and other marine invertebrates, algae, fishes, marine mammals, sea turtles and migratory seabirds.

Preliminary Issues, Concerns, and Opportunities

We have identified a number of preliminary issues, concerns, and opportunities, which may warrant addressing in the CCP. We have briefly summarized these issues below. During public scoping, we may identify additional issues.

During the CCP planning process the Service will analyze methods for protecting the resources of the Palmyra Atoll NWR in the long term, while providing quality opportunities for wildlife-dependent recreation.

At the Palmyra Atoll and Kingman Reef NWRs, the Service will specifically evaluate the extensive inventory, monitoring, and research needs of these NWRs through the development of a RMP. Research strategies and objectives will be evaluated within the context of Refuge needs and priorities, and in the wider context of regional, national, and international conservation priorities. We will determine methods for prioritizing and accomplishing research needs in a RMP. We will also identify and consider research alternatives, strategies, actions, and partnerships to facilitate valuable research, while protecting sensitive and irreplaceable wildlife, habitat, and cultural resources found within the NWRs.

Public Meeting

A public open house meeting will be held on May 8, 2007, at 7:30 p.m. at the Carlsbad Fish and Wildlife Office, 6010 Hidden Valley Road, Carlsbad, CA 92001, to provide information on a CCP and RMP, and receive public comments. Opportunities for additional public input will be announced throughout the planning process.

Dated: April 17, 2007.
David J. Wesley,
Acting Regional Director, Region 1, Portland, Oregon.

[FR Doc. E7-8756 Filed 5-4-07; 8:45 am]

BILLING CODE 4310-55-P